DEPARTMENT OF LABOR

Office of the Secretary

Office of Small Business Programs Proposed Collection; Comment Request

ACTION: Notice.

SUMMARY: The Department of Labor, as part of its continuing effort to reduce paperwork and respondent burden, conducts a pre-clearance consultation program to provide the general public and Federal agencies an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Office of Small Business Programs (OSBP) is soliciting comments concerning the proposed continuation of the information collections contained in the Small Business Programs Information Management System. A copy of the proposed information collection request (ICR) can be obtained by contacting the employee listed below in the ADDRESSES section of this notice.

DATES: Written comments must be submitted to the office listed in the addresses section below on or before September 10, 2004.

ADDRESSEES: Send comments to Elaine B. Murrell, Small Business Advisor, U.S. Department of Labor, Office of Small Business Programs, Room C-2318, 200 Constitution Avenue, NW., Washington, DC 20210; E-Mail: murrell.elaine@dol.gov; Telephone: 202-693-6467; Fax: 202-693-6485 (these are not a toll free numbers).

FOR FURTHER INFORMATION CONTACT: The employee listed above in the ADDRESSES section of this notice.

SUPPLEMENTARY INFORMATION:

I. Background

Federal agencies are required to promote procurement opportunities for small, small disadvantaged, and 8(a) businesses by the Small Business Act, as amended, (Pub. L. 95-507, Sections 8 and 15) and Pub. L. 100-656 (Sections 502 and 503). The Federal Acquisition Streamlining Act of 1994 (Pub. L. 103-355) mandates similar efforts for small women-owned businesses. Pub. L. 106-50 created the program for service-disabled veteran-owned small businesses. Pub. L. 105-135 established the HubZone program. The Small Business Regulatory Enforcement Fairness Act of 1996 (Pub. L. 104-121) requires Federal agencies to make available to small businesses compliance guides and assistance on the implementation of regulations and directives of enforcement laws they administer. Executive Orders 12876, 12900, and 13021 direct Federal agencies to implement programs, respectively, regarding Historically Black Colleges and Universities, Educational Excellence for Hispanic Americans, and Tribal Colleges and Universities that are administered by the respective White House Initiative offices (in the U.S. Department of Education). Executive Order 13125 directs Federal agencies to ensure that Asian Americans and Pacific Islanders are afforded opportunity to fully participate in Federal Programs. Further, Executive Order 13170 requires that Departments take a number of actions to increase outreach and maximize participation of small disadvantaged businesses in their procurements. Executive Order 13157 strengthens the executive branch's commitment to increased opportunities for women-owned small businesses. Accordingly, the Small Business Programs Information Management System is needed to gather, document, and manage identifying information for four Office of Small Business Programs constituency groups: Small Businesses; Trade Associations; Minority Colleges and Universities; and Tribal Governments. Via this system, the constituent groups will have the opportunity to voluntarily provide to OSBP information about their organizations. The information will be used by OSBP and DOL agencies to maximize communication with the respective constituency groups regarding relevant OSBP and DOL programs, initiatives, and procurement opportunities; to track and solicit feedback on customer service to group members; and to facilitate registration of group members for OSBP-sponsored activities.

II. Review Focus

The Office of Small Business Programs is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Currently, the Office of Small Business Programs (OSBP) is soliciting comments concerning the proposed continuation of the information collections contained in the Small Business Programs Information Management System. The estimated public burden associated with this collection of information is summarized below:

Type of Review: Extension of a currently approved collection.

Agency: Office of Small Business Programs.

Title: Small Business Program Information Management System.

OMB Number: 1290-0002.

Agency Form Number: None.

Affected Public: Business or other for-profit; Not-for-profit institutions; and State, local, or tribal governments.

Total Respondents: 4,000.

Total Responses: 6,000.

Frequency: On Occasion.

Average Time Per Response: 7 minutes.

Estimated Total Burden Hours: 700 hours.

Total Burden Cost (capital/startup): $0.

Total Burden Cost (operating/maintenance): $0.

Comments submitted in response to this notice will be summarized and/or included in the request for Office of Management and Budget approval of the information collection request; they also will become a matter of public record.

Signed at Washington, DC, this 6th day of July, 2004.
Fredrick H. Trakowski,
Small Business Procurement Program Officer.

[FR Doc. 04-15695 Filed 7-9-04; 8:45 am]

BILLING CODE 4510-23-P